FEDERAL COMMUNICATIONS COMMISSION

47 CFR Part 73

[DA 00-2421; MM Docket No. 00-213; RM-9990]

Radio Broadcasting Services; Pigeon Forge, TN

AGENCY: Federal Communications Commission.

ACTION: Proposed rule.

SUMMARY: The Commission requests comments on a petition filed by Bernice P. Hedrick proposing the allotment of Channel 292A at Pigeon Forge, TN as the community's first local aural transmission service. Channel 292A can be allotted to Pigeon Forge in compliance with the Commission's minimum distance separation requirements with a site restriction of 7.5 kilometers (4.7 miles) southeast of city reference coordinates. The coordinates for Channel 292A at Pigeon Forge are 35-43-33 North Latitude and 83-31-18 West Longitude.

DATES: Comments must be filed on or before December 18, 2000, and reply comments on or before January 2, 2001.

ADDRESSES: Secretary, Federal Communications Commission, Washington, DC 20554. In addition to filing comments with the FCC, interested parties should serve the petitioner, as follows: Bernice P. Hedrick, P.O. Box 27, 317 Stonegables Ct., Gray, GA 31032.

FOR FURTHER INFORMATION CONTACT: Arthur D. Scrutchins, Mass Media Bureau, (202) 418-2180.

SUPPLEMENTARY INFORMATION: This is a synopsis of the Commission's Notice of Proposed Rule Making, MM Docket No. 00-213; adopted October 18, 2000 and released October 27, 2000. The full text of this Commission decision is available for inspection and copying during normal business hours in the FCC Reference Information Center (Room CY-A257), 445 12th Street, SW., Washington, DC. The complete text of this decision may also be purchased from the Commission's copy contractor, International Transcription Service, Inc., (202) 857-3800, 1231 20th Street, NW., Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Tennessee, is amended by adding Pigeon Forge, Channel 292A.

Federal Communications Commission.
John A. Karousos,
Chief, Allocations Branch, Policy and Rules Division, Mass Media Bureau.

[FR Doc. 00-28912 Filed 11-9-00; 8:45 am]

BILLING CODE 6712-01-P